DEPARTMENT OF TRANSPORTATION

Federal Aviation Administration

Notice of Opportunity for Public Comment on Surplus Property Release at Auburn-Opelika Airport, Auburn, AL

AGENCY: Federal Aviation Administration (FAA), DOT.

ACTION: Notice of intent to rule on land release request.

SUMMARY: Under the provisions of Title 49, U.S.C. 47153(c), notice is being given that the FAA is considering a request from Auburn University to release a 1.603-acre parcel of airport property, located at the Auburn-Opelika Airport, to the City of Auburn to construct a public access road on the property to the new airport terminal area.

DATES: Comments must be received on or before January 2, 2008.

ADDRESSES: Comments on this notice may be mailed or delivered in triplicate to the FAA at the following address:

Jackson Airports District Office, 100 West Cross Street, Suite B, Jackson, MS 39208-2307.

In addition, one copy of any comments submitted to the FAA must be mailed or delivered to Mr. Bill Hutto Jr., Executive Director, at the following address:

Mr. William T. Hutto, Jr., Executive Director, Auburn University Aviation, 700 Airport Road, Auburn, AL 36830.

FOR FURTHER INFORMATION CONTACT: Keafur Grimes, Program Manager, Jackson Airports District Office, 100 West Cross Street, Suite B, Jackson, MS 39208-2307, (601) 664-9886. The land release request may be reviewed in person at this same location.

SUPPLEMENTARY INFORMATION: The FAA is reviewing a request by Auburn University Aviation to release 1.603 acres of airport property at the Auburn-Opelika Airport. The property will be released to the City of Auburn to construct a public access road to the new terminal area at the airport. The net value of the released property will be reinvested in the new Auburn-Opelika Terminal Building.

Any person may inspect the request in person at the FAA office listed above under FOR FURTHER INFORMATION CONTACT.

In addition, any person may, upon request, inspect the request, notice and other documents germane to the request in person at the Auburn-Opelika Airport.

Issued in Jackson, Mississippi, on November 19, 2007.
Kristi Ashley,
Acting Manager, Jackson Airports District Office, Southern Region.

[FR Doc. 07-5899 Filed 11-30-07; 8:45 am]

BILLING CODE 4910-13-M